DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

Date And Time: September 17, 2015 10:00 a.m.

Place: Room 2C, 888 First Street NE., Washington, DC 20426.

Status: Open.

Matters to be Considered: Agenda. Note—Items listed on the agenda may be deleted without further notice.

Contact Person For More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1019TH—MEETING
[Regular meeting; September 17, 2015; 10:00 a.m.]
Item No. | Docket No. | Company
ADMINISTRATIVE
A-1 | AD02-1-000 | Agency Business Matters.
A-2 | AD02-7-000 | Customer Matters, Reliability, Security and Market Operations.
A-3 | AD15-14-000 | Winter 2015-2016 Operations and Market Performance in Regional Transmission Organizations and Independent System Operators.
| ER14-2242-001 | Old Dominion Electric Cooperative.
| ER15-623-004, ER15-623-005, ER15-623-006, ER15-623-007 | PJM Interconnection, L.L.C.
| ER15-1825-000 | California Independent System Operator Corp.
| ER15-2208-000 | ISO New England Inc.
| ER15-2256-000 | Midcontinent Independent System Operator, Inc.
| ER15-2260-001 | PJM Interconnection, L.L.C.
| ER15-2377-000 | Southwest Power Pool, Inc.
| ER14-2419-003 | ISO New England Inc.
| EL14-22-000 | California Independent System Operator Corp.
| EL14-45-001 | Duke Energy Corporation v. PJM Interconnection, L.L.C.
| EL14-52-001, EL14-52-002 | ISO New England.
| EL15-29-003, EL15-29-004 | PJM Interconnection, L.L.C.
ELECTRIC
E-1 | RM15-24-000 | Settlement Intervals and Shortage Pricing in Markets Operated by Regional Transmission Organizations and Independent System Operators.
E-2 | RM15-23-000 | Collection of Connected Entity Data from Regional Transmission Organizations and Independent System Operators.
E-3 | RM15-25-000 | Availability of Certain North American Electric Reliability Corporation Databases to the Commission.
E-4 | RM15-4-000 | Disturbance Monitoring and Reporting Requirements Reliability Standard.
E-5 | RM15-9-000 | Protection System, Automatic Reclosing, and Sudden Pressure Relaying Maintenance Reliability Standard.
E-6 | RM15-8-000 | Relay Performance During Stable Power Swings Reliability Standard.
E-7 | ER14-2952-003, ER14-2952-004, ER14-1243-004, ER14-1725-001, ER14-2180-001 | Midcontinent Independent System Operator, Inc.
E-8 | ER15-2237-000 | Kanstar Transmission, LLC.
E-9 | ER15-2236-000 | Midwest Power Transmission Arkansas, LLC.
E-10 | EL15-65-000 | Southline Transmission, L.L.C., SU FERC, L.L.C.
E-11 | QM15-2-001 | Northern States Power Company, a Minnesota corporation.
E-12 | EF15-9-000 | Bonneville Power Administration.
E-13 | EL14-38-001 | Sunflower Electric Power Corporation v. Kansas Municipal Energy Agency and Southwest Power Pool, Inc.
E-14 | RM13-18-000 | Statement of Policy on Electric Transmission Rates of Return on Equity.
E-15 | ER05-6-118 | Midwest Independent Transmission System Operator, Inc.
| ER10-2283-000, ER10-2283-001 | Midwest Independent Transmission System Operator, Inc.
| EL04-135-120 | Midwest Independent Transmission System Operator, Inc., PJM Interconnection, LLC.
| EL02-111-139 | Midwest Independent Transmission System Operator, Inc., PJM Interconnection, LLC.
| EL03-212-134 | Ameren Services Company.
E-16 | ER15-1809-000 | ATX Southwest, LLC.
MISCELLANEOUS
M-1 | RM14-2-001 | Coordination of the Scheduling Processes of Interstate Natural Gas Pipelines and Public Utilities.
GAS
G-1 | OR12-4-001 | Enterprise Products Partners L.P. and Enbridge Inc.
G-2 | OR15-6-000 | Seaway Crude Pipeline Company LLC.
HYDRO
H-1 | Omitted
H-2 | P-5-100 | Confederated Salish and Kootenai Tribes Energy Keepers, Incorporated.
CERTIFICATES
C-1 | CP15-133-000 | Columbia Gas Transmission, LLC.
| CP15-146-000 | Mountaineer Gas Company.
C-2 | CP15-109-000 | Columbia Gulf Transmission, LLC.

Issued: September 10, 2015.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-23324 Filed 9-14-15; 11:15 am]

BILLING CODE 6717-01-P